DEPARTMENT OF TRANSPORTATION

Pipeline and Hazardous Materials Safety Administration

Hazardous Materials: Notice of Applications for Modifications to Special Permit

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before October 26, 2020.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC.

This notice of receipt of applications for special permit is published in accordance with part 107 of the Federal hazardous materials transportation law (49 U.S.C. 5117(b); 49 CFR 1.53(b)).

Issued in Washington, DC, on October 1, 2020.
Donald P. Burger,
Chief, General Approvals and Permits Branch.

Application No. | Applicant | Regulation(s) affected | Nature of the special permits thereof
Special Permits Data
11818-M | Thermavant Technologies, LLC | 172.101(j), 173.301(f), 173.302a(a)(1), 173.304a(a)(2) | To modify the special permit to authorize mass spectrometer leak inspection as a means of verifying the integrity of cylinder welds. (modes 1, 3, 4)
15689-M | Mercedes-Benz Research & Development North America, Inc | 172.200, 172.301(c), 177.834(h) | To authorize a larger cylinder to be utilized in the test equipment. (mode 1)
16011-M | Americase, LLC | 172.200, 172.300, 172.600, 172.700(a), 172.400, 172.500, 173.185(f) | To modify the special permit to authorize shipment of damaged/defective batteries up to 1500Wh without full hazmat training of employees. (modes 1, 2, 3)
16163-M | The Dow Chemical Company | 172.203(a), 172.302(c), 180.605(h), 180.605(h)(3) | To modify the special permit to authorize additional liquid hazmat to be offered for transportation. (modes 1, 2, 3)
16311-M | Government Of Thailand, Royal Thai Navy |  | To modify the permit to include Div 1.4 materials that are in a quantity that exceed the package limitations in Column (9B) of the 172.101 HMT. (mode 4)
20294-M | The Dow Chemical Company | 172.302(c), 173.203(a), 180.605(h)(3) | To modify the special permit to authorize a higher maximum allowable working pressure for UN T11 portable tanks and to authorize two additional hazardous materials. (modes 1, 2, 3)
20301-M | Tesla, Inc | 172.101(j), 173.185(a)(1), 173.185(b)(3)(i), 173.185(b)(3)(ii) | To modify the special permit to authorize a new pressure relief design and to increase cell energy. (mode 4)
20705-M | Exhaust Center, Inc | 177.834(h), 178.700(c)(1) | To modify the special permit to authorize three new tank designs. (mode 1)
20851-M | Call2recycle, Inc | 172.200, 172.600, 172.700(a) | To modify the special permit to authorize rail transport. (modes 1, 2)
21105-M | US EPA Region 5 | 172.102(c)(1), 173.185(f)(1), 173.185(f)(3) | To modify the special permit to authorize layering fire suppressant between a layer of button cells rather than around each individual cell. (mode 1)

[FR Doc. 2020-22363 Filed 10-8-20; 8:45 am]

BILLING CODE 4910-60-P